DEPARTMENT OF HEALTH AND HUMAN SERVICES

Health Resources and Service Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Dates and Times: September 15, 2014, 9:00 a.m.-2:00 p.m. (EST).

Place: Webinar and Conference Call Format.

Status: The meeting will be open to the public.

Purpose: The ACTPCMD provides advice and recommendations on a broad range of issues related to grant programs authorized by sections 222 and 749 of the Public Health Service Act, as amended by section 5103(d) and re-designated by section 5303 of the Patient Protection and Affordable Care Act of 2010.

Agenda: This webinar meeting will begin with opening remarks from Health Resources and Service Administration (HRSA) senior officials and include a final discussion and vote on the committee's 11th Report to Congress. Additional agenda items include: review of a letter of support for the Teaching Health Center Graduate Medical Education program, a brief program update by HRSA staff, and discussion on a topic for the committee's next report.

The agenda will be available 2 days prior to the meeting on the HRSA Web site (http://www.hrsa.gov/advisorycommittees/bhpradvisory/actpcmd/index.html). Agenda items are subject to change as priorities dictate.

Public Comment: An opportunity will be provided for public comment at the end of the meeting, or written comments to the members may be sent, not later than five days prior to the meeting date, to Shane Rogers at srogers@hrsa.gov. As this meeting will be conducted via webinar format, a Question and Answer Pod will also be available for public comment as well.

SUPPLEMENTARY INFORMATION: Information on accessing the webinar will be available via the following Web site not later than two days prior to the meeting date: http://www.hrsa.gov/advisorycommittees/bhpradvisory/actpcmd/index.html.

FOR FURTHER INFORMATION CONTACT: Mr. Shane Rogers, Designated Federal Official, ACTPCMD, Bureau of Health Workforce, Health Resources and Services Administration, Room 12C-06, Parklawn Building, 5600 Fishers Lane, Rockville, Maryland 20857, call 301-443-5260, or email srogers@hrsa.gov.

Dated: August 22, 2014.
Jackie Painter,
Acting Director, Division of Policy and Information Coordination.

[FR Doc. 2014-20599 Filed 8-28-14; 8:45 am]

BILLING CODE 4165-15-P